DEPARTMENT OF HEALTH AND HUMAN SERVICES

Office of the Secretary

[Document Identifier: OS-4040-0003]

Grants.gov Program Management Office; Agency Information Collection Activities: Proposed Collection; Comment Request

AGENCY: Office of the Secretary, Grants.gov Program Management Office, HHS.

In compliance with the requirement of section 3506(c)(2)(A) of the Paperwork Reduction Act of 1995, the Grants.gov Program Management Office, one of the 26 E-Government initiatives, managed by the Department of Health and Human Services is publishing the following summary of proposed collection for public comment. Interested individuals are invited to send comments regarding any aspect of this collection of information or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular;

Title of Information Collection: SF-424 Short Organizational;

Form/OMB No.: OS-4040-0003;

Use: On March 24, 2005, the Grants.gov Program Management Office, one of the 26 E-Government initiatives, managed by HHS, published the proposed SF-424 Short Organizational (Short) collection for public comment in the Federal Register (70 FR 15089).

Interested individuals were invited to send comments regarding any aspect of this collection of information. This notice indicates request for extension of OMB clearance for the SF-424 (Short), and also responds to comments received on the March 24, 2005, Federal Register notice.

The SF-424 (short) is a simplified, alternative government-wide data set and application cover page for use by Federal grant-making agencies. Agencies may use the SF-424 (Short) for grant programs not requiring all the data that is required on the SF-424 core data set and form. This information collection request also includes two additional government-wide forms, the Key Contacts form and the Project Abstract form, each of which can be used in conjunction with the SF-424 to collect supplemental applicant data. The Key Contacts form is an optional form that the agencies may use to collect additional key contact or point of contact information. The Project Abstract form is also an optional form that provides the mechanism for the applicant to attach a file that contains an abstract of the project, in a format specified by the agency.

The SF-424 (Short) and supplemental data set and forms are currently available for use as part of the electronic application process of Grants.gov, which was deployed in October 2003 and is part of the implementation of the Federal Financial Assistance Management Improvement Act of 1999 (Public Law 106-107). The standard data set replaces numerous agency data sets and reduces the administrative burden placed on the grants community. Federal agencies are not required to collect all of the information included in the proposed data set. The agency will identify the data that must be provided by applicants through instructions that will accompany the application package.

Comments sent to OMB by the public, questioned the need to collect the Social Security Number (SSN) for the Project Director and/or the Primary Contact/Grants Administrator. Grants.gov responded to this comment by revising the application cover page to indicate that SSN is optional and adding the following statement, “Disclosure of SSN is voluntary. Please see the application package instructions for the agency's authority and routine uses of the data.” In addition, OMB has also requested that Grants.gov, in consultation with other agencies, investigate options for a unique identifier other than SSN. Grants.gov plans to address this condition through its newly formed Agency User Group.

The estimate of the total burden of the collection information has been updated based on the Paperwork Reduction Act Worksheets (OMB 83-C) received from the agencies. Currently, six agencies plan to use the SF-424 (Short) in lieu of the SF-424 for eligible grant programs. Collectively, the agencies plan to receive 8,549 applications annually and estimate that it takes applicants 25 minutes on average to complete each application. Cumulatively, these organizations report the total burden to applicants to be 3,652 hours.

Frequency: Recordkeeping, Reporting, on occasion.

Affected: Federal, State, Local and Tribal governments; farms; non-profit institutions, and other for-profit.

Total Annual Respondents: 8,276.

Total Annual Responses: 8,549.

Average Burden Per Response: 25 minutes.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 60 days of this notice directly to the OS Paperwork Clearance Officer designated at the following address: Department of Health and Human Services, Office of the Secretary, Assistant Secretary for Budget, Technology, and Finance, Office of Information and Resource Management, Attention: Naomi Cook (4040-0003), Room 531-H, 200 Independence Avenue, SW., Washington DC 20201.

Dated: August 18, 2005.
Robert E. Polson,
Office of the Secretary, Paperwork Reduction Act Reports Clearance Officer.

[FR Doc. 05-17429 Filed 8-31-05; 8:45 am]

BILLING CODE 4151-17-P